DEPARTMENT OF HEALTH AND HUMAN SERVICES

National Institutes of Health

National Eye Institute; Amended Notice of Meeting

Notice is hereby given of a change in the meeting of the National Eye Institute Special Emphasis Panel, April 2, 2019, 2:00 p.m. to April 2, 2019, 4:00 p.m., National Institutes of Health, Rockledge 6700, 6700B Rockledge Drive, Bethesda, MD 20817 which was published in the Federal Register on March 14, 2019, 84-9365.

The meeting notice is amended to change the date of the meeting from April 2, 2019 to April 5, 2019 the meeting is closed to the public.

Dated: March 15, 2019.
Sylvia L. Neal,
Program Analyst, Office of Federal Advisory Committee Policy.

[FR Doc. 2019-05335 Filed 3-20-19; 8:45 am]

BILLING CODE 4140-01-P